DEPARTMENT OF THE INTERIOR

National Park Service

Golden Gate National Recreation Area; Notice of Public Open Houses for Calendar Year 2009

Notice is hereby given that public Open Houses of the Golden Gate National Recreation Area (GGNRA) will be scheduled in calendar year 2009 to distribute information and provide public involvement on issues related to management of the GGNRA. These Open Houses are scheduled for the following dates in San Francisco and at locations yet to be determined in San Mateo County and Mann County, California:

Tuesday, February 17, 4 p.m.—Marin County, CA location (TBA).

Tuesday, May 19, 4 p.m.—Park Headquarters, Fort Mason, San Francisco, CA.

Tuesday, September 15, 4 p.m.—Pacifica, CA location (TBA).

Tuesday, November 17, 4 p.m.—Park Headquarters, Fort Mason, San Francisco, CA.

All Open Houses will start at 4 p.m. Information confirming the time and location of all public meetings or cancellations of any meetings can be received by calling the Office of Public Affairs at (415) 561-4733. Public Open House agendas and all documents for public scoping and public comment on issues listed below can be found on the park Web site at http://www.nps.gov/goga.

Anticipated possible agenda items at meetings during calendar year 2009 include:

• Marin Headlands—Fort Baker Transportation Management Plan.

• General Management Plan—Golden Gate National Recreation Area.

• Extension of San Francisco Municipal Railway's Historic “F” Streetcar Line.

• Dog Management Plan for GGNRA.

• Dias Ridge Trail Rehabilitation and Trail Improvement Project.

• Southern Marin Equestrian Plan Update.

• Doyle Drive—South Access to the Golden Gate Bridge.

• The San Francisco Bay Trail at Fort Mason.

• The Upper Fort Mason entry at Bay & Franklin Streets.

• Long Range Transportation Plan.

• Headlands Institute Improvements and Expansion Plan.

• USCG Lighthouses Transfer Update.

• Trails Forever—Update on Projects.

• Headlands Institute Campus Improvement and Expansion Plan.

• Activities and membership information of the Golden Gate National Parks Conservancy.

• Update on Park Partner Projects in the Marin Headlands.

• Update on Restroom Construction at Fort Funston.

• Ocean Beach: Erosion Control and Vision Planning.

• Update on Institute at Golden Gate.

• Accessibility projects and goals at GGNRA.

• Update on GGNRA's San Mateo Lands.

Specific final agendas for these meetings will be made available to the public at least 15 days prior to each meeting and can be received by contacting the Office of Public Affairs, Golden Gate National Recreation Area, Building 201, Fort Mason, San Francisco, California 94123 or by calling (415) 561-4733. They are also noticed on the Golden Gate National Recreation Area Web site http://www.nps.gov/goga under the section “Public Meetings”.

All Open Houses are open to the public. Sign language interpreters are available by request at least one week prior to a meeting. The TDD phone number for these requests is (415) 556 2766. For copies of the agendas contact the Office of Public Affairs, Golden Gate National Recreation Area, Building 201, Fort Mason, San Francisco, California 94123, or call (415) 561-4733.

Dated: December 8, 2008.
Brian O'Neill,
General Superintendent, Golden Gate National Recreation Area.

[FR Doc. E8-31157 Filed 1-5-09; 8:45 am]

BILLING CODE 4310-70-M